DEPARTMENT OF AGRICULTURE

Agricultural Marketing Service

[Doc. No. AMS-FTPP-19-0025]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget, for an extension of and revision to the currently approved information collection Swine Contract Library. OMB approved this information collection as OMB 0580-0021 under Grain Inspection, Packers and Stockyards (GIPSA). Due to the realignment of offices authorized by the Secretary's memorandum dated November 14, 2017, which eliminated the GIPSA as a standalone agency, the Swine Contract Library activities formerly part of GIPSA are now assigned a new OMB control number of 0581-0311.

DATES: Comments on this notice must be received by May 14, 2019 to be assured of consideration.

ADDRESSES: Interested persons are invited to submit comments concerning this notice by using the electronic process available at www.regulations.gov. Written comments may also be submitted to Stuart Frank, Director, Packers and Stockyards Division, Agricultural Marketing Service, U.S. Department of Agriculture, 1400 Independence Ave. SW, Room 2507, Washington, DC 20250, Tel: 202-720-7051, Fax: 202-690-3207. All comments should reference the docket number (same number as above assigned by Originating Program), the date, and the page number of this issue of the Federal Register. All comments received will be posted without change, including any personal information provided, at www.regulations.gov and will be included in the record and made available to the public.

FOR FURTHER INFORMATION CONTACT: Contact Gayle L. Pounds-Barnett, Economist, Packers and Stockyards Division, 210 Walnut Street, Room 317, Des Moines, Iowa 50309 Direct Tel: (515) 323-2541, Fax: (515) 323-2590, gayle.l.barnett@usda.gov.

SUPPLEMENTARY INFORMATION: Title: Swine Contract Library.

OMB Number: 0581-0311.

Expiration Date of Approval: 08/31/2019.

Type of Request: Extension and revision of a currently approved information collection.

Abstract: The information collection and recordkeeping requirements for the Swine Contract Library are essential to maintaining the mandatory library of swine marketing contracts and reporting the number of swine contracted for delivery. Currently 33 companies (packers) are required to file contracts and report certain information on swine deliveries for a total of 55 locations (plants) that they either operate or at which they have swine slaughtered. We expect the overall number of plants and packers to remain relatively constant, but the specific packers required to report will vary with consolidation and construction in the industry.

Packers are required to report information for individual plants. The information collection burden estimate provided below is based on time and cost requirements at the plant level. Consequently, packers that report for more than one plant would bear a cost that would be a multiple of the per-plant estimates.

There are two types of information collections required for the Swine Contract Library.

The first information collection requirement consists of submitting example contracts. Initially, a packer submits example contracts currently in effect or available for each swine processing plant that is subject to the regulations. Subsequently, a packer submits example contracts for any offered, new, or amended contracts that vary from previously submitted contracts in regard to the base price determination, the application of a ledger or accrual account, carcass merit premium and discount schedules (including the determination of the lean percent or other merit of the carcass that is used to determine the amount of the premiums and discounts and how those premiums and discounts are applied), or the use and amount of noncarcass merit premiums or discounts. The initial submission of example contracts requires more time than subsequent filings of new contracts or changes, as packers initially need to review all their contracts to identify the unique types that need to be represented by an example contract submitted to AMS. Thereafter, subsequent filings require a minimal amount of effort on the part of packers, as only example contracts that represent a new or different type need to be filed.

Packers are required to submit both written and verbal contracts. Packers must document verbal contracts which adds to their existing recordkeeping systems in order to comply with this requirement. The optional “Verbal Contract Optional Documentation Sheet,” (Form PSD 343) provides a format to document the verbal agreement. A “Contract Submission Cover Sheet” (Form PSD 342) must accompany each contract submission to identify the contract, the plant or plants for which the contract is valid, and the contact person.

The second information collection requirement is a monthly filing of summary information on “Monthly Report: Estimates of Swine To Be Delivered Under Contract” (Form PSD 341). The form for the monthly filing is simple and brief. For new packers required to start reporting, this data should be available in the packers' existing record system. We encourage electronic submission and provide the necessary information on procedures to submit data to AMS electronically. A procedure exists to request a waiver on submitting Form PSD 341 for respondents that do not currently use contracts.

The time requirements estimates used for the burden estimates below were developed in consultation with AMS personnel knowledgeable in the industry's recordkeeping practices. The estimates also reflect our experience in assembling large amount of data during the course of numerous investigations involving use of data collected from the industry. Hourly wage estimates reflect average wages taken from the BLS Occupational Employment Statistics in the states where current respondents are located. Our experience indicates that a variety of positions are used by various companies to complete the reporting and recordkeeping tasks. Wages are therefore estimated for the most common level of employee performing these tasks.

(1) Example Contracts

a. Contract Submission Cover Sheet (PSD 342)

Estimate of Burden: The reporting burden for contract submission estimate includes 4 hours per plant for an initial review of all contracts to categorize them into types and identify unique examples, plus an additional 0.25 hours per unique contract identified during the initial review to submit an example of that contract. After the initial filing, the reporting burden estimate includes 0.25 hours per plant to submit an example of each new or amended contract.

Respondents: Packers required to report information for the Swine Contract Library.

Estimated Number of Respondents: 33 packers (total of 55 plants).

Estimated Number of Responses per Plant: Number of responses per plant varies. Some plants could have no contracts, while others could have up to 80 contracts. We receive an average of six example contracts per plant per year for offered contracts and for amended existing or available contracts.

Estimated Total Annual Burden on Respondents: Initial filing: 6 total hours for the initial filing of examples of existing contracts by all plants newly subject to the regulations. Based on changes in the industry, we anticipate one new plant to become subject to the regulations each year. Calculated as follows: 4 hours per plant for initial review × 1 new plant = 4 hours for initial review; 0.25 hours per contract (reporting) × 6 example contracts per plant × 1 new plant = 1.5 hours; 0.083 hours per contract (recordkeeping) × 6 contracts per plant × 1 new plant = .5 hours; 4 hours + 1.5 hours + .5 hours = 6 total hours.

Subsequently, 81 total hours annually for all subsequent filing of example contracts by all plants combined, based on an average of 6 newly offered or amended contracts annually.

Calculated as follows: 0.25 hours per contract (reporting) × 6 example contracts per plant × 55 plants = 82.5 hours. 0.083 hours per contract (recordkeeping) × 6 example contracts per plant × 55 plants = 27.5 hours. 82.5 hours + 27.5 hours = 110 hours.

Total Cost: Initial filing $143.25 for one expected new plant. Calculated as follows: 5.5 hours × $24.50 per hour = $134.75; 0.5 hours × $17 per hour = $8.50; $134.50 + $8.50 = $143.25.

Subsequently, $2488.75 annually for all plants combined for submission of subsequent filings. Calculated as follows: 82.5 hours × $24.50 per hour = $2021.25; 27.5 × $17 per hour = $467.50; $2021.25 + $467.50 = $2488.75.

b. Verbal Contract Optional Documentation Sheet (PSD 343)

Estimate of Burden: The reporting burden for documenting verbal contracts using PSD 343 includes 0.25 hours per verbal contract document. Each contract documented using PSD 343 should be accompanied by PSD 342 therefor reporting burden is captured in estimates for PSD 342.

Respondents: Packers required to report information for the Swine Contract Library.

Estimated Number of Respondents: 10 plants.

Estimated Number of Responses per Plant: 1.

Estimated Total Annual Burden on Respondents: 2.50 total hours calculated as follows: 0.25 hours per contract (recordkeeping) × 1 contract per plant × 10 plants = 2.5 hours.

Total Cost: $133.13 for all verbal contracts using PSD 343 calculated as follows 2.5 hours × $53.25 per hour = $133.13.

(2) Monthly Summary

a. Monthly Report: Estimate of Swine To Be Delivered Under Contract (PSD 341)

Estimate of Burden: The burden estimate for monthly summary submission includes a one-time set up of 1 hour for a packer that chose to create a spreadsheet or database for recordkeeping and preparation of monthly estimates and a 2 hour burden for a packer to develop procedures to extract and format the required information and to develop an interface between the packer's electronic recordkeeping system and AMS' system. The monthly recordkeeping burden is estimated at 2.5 hours per plant. The reporting burden for compiling data, completing and submitting the form includes an average of 2 hours per manually prepared and submitted (by mail or facsimile) report and 1 hour per electronically prepared and submitted report. There is an estimated additional.

Respondents: Packers required to report information for the Swine Contract Library, less packers filing waiver requests.

Estimated Number of Respondents: 25 packers (total of 47 plants).

Estimated Number of Responses per Plant: 12 (1 per month for 12 months).

Estimated Total Annual Burden on Respondents: Initial filing: 3 hours per new plant. Calculated as follows: 1 hour per plant (reporting) × 1 new plant = 1 hour; 2 hours per plant (recordkeeping) × 1 new plant = 2 hours; 1 hour + 2 hours = 3 hours.

Subsequently, 1998 total hours for all submitting plants. Calculated as follows:

Manual filing: 2 hours per response × 12 responses per plant (reporting) × 2 plants = 48 hours; 2.5 hours per month per plant (recordkeeping) × 12 months × 2 plants = 60 hours; 48 hours + 60 hours = 108 hours.

Electronic filing: 1 hour per response × 12 responses per plant (reporting) × 45 plants = 540 hours; 2.5 hours per month per plant (recordkeeping) × 12 months × 45 plants = 1350 hours; 540 hours + 1350 hours = 1890 hours; 1890 hours + 108 hours = 1998 hours.

Total Cost: Initial filing $124.50 for one expected new plant. Calculated as follows: 2 hours (reporting) × $41.50 per hour = $83; 1 hours (recordkeeping) × $41.50 per hour = $41.50; $83+ $41.50 = $124.50.

Subsequently, $37347 for all submitting plants. Calculated as follows:

Manual filing: 48 hours (reporting) × $22.75 = $192; 60 hours (recordkeeping) × $17 = $1020; $192+ $1020 = $2112.

Electronic filing: 540 hours (reporting) × 22.75 = 12285; 1350 hours (recordkeeping) × $17 per hour = $22950; $12285 + $22950 = $35235 $2112 + $35235 = $37347.

b. Annual Waiver Request

Estimate of Burden: The burden estimate for annual waiver request includes 0.25 hours for documents and submitting a statement to AMS confirming that the company or plant does not currently have any marketing contracts that are subject to the regulation.

Respondents: Packers required to report information for the Swine Contract Library, less packers filing waiver requests.

Estimated Number of Respondents: 8 packers (total of 8 plants).

Estimated Number of Responses per Plant: 1.

Estimated Total Annual Burden on Respondents: 2.67 hours. Calculated as follows: 0.25 hours per plant (reporting) × 8 plants = 2 hours; .083 hours per plant (recordkeeping) × 8 plants = .67 hours; 2 hours + .67 hours = 2.67 hours

Total Cost: $117.83 for all waivered plants. Calculated as follows: 2 hours (reporting) × $53.25 = 106.5; .67 hours (recordkeeping) × $17 = $11.33; $106.50 + $11.33 = $117.83.

The Paperwork Reduction Act also requires AMS to measure the recordkeeping burden. Under the Packers and Stockyards Act and its existing regulations, each packer is required to maintain and make available upon request any records necessary to verify information on all transactions between the packer and producers from whom the packer obtains swine for slaughter. Records that packers are required to maintain under existing regulations would meet the requirements for verifying the accuracy of information required to be reported for the Swine Contract Library. These records include original contracts, agreements, receipts, schedules, and other records associated with any transaction related to the purchase, pricing, and delivery of swine for slaughter under the terms of marketing contracts. Additional annual costs of maintaining records would be nominal since packers are required to store and maintain such records as a matter of normal business practice and in conformity with existing regulations.

As required by the Paperwork Reduction Act (44 U.S.C. 3506(c)(2)(A)) and its implementing regulations (5 CFR 1320.8(d)(1)), AMS specifically requests comment on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Stuart Frank, Director, Packers and Stockyards Division, Agricultural Marketing Service, U.S. Department of Agriculture, 1400 Independence Ave. SW, Room 2507, Washington, DC, 20250, Tel: 202-720-7051, Fax: 202-690-3207.

All comments received will be available for public inspection during regular business hours at the same address.

All responses to this notice will be summarized and included in the request for OMB approval. All comments will become a matter of public record.

Dated: March 11, 2019.
Erin Morris,
Associate Administrator, Agricultural Marketing Service.

[FR Doc. 2019-04862 Filed 3-14-19; 8:45 am]

BILLING CODE 3410-02-P